NATIONAL FOUNDATION ON THE ARTS AND THE HUMANITIES

National Endowment for the Humanities

Meetings of Humanities Panel

AGENCY: National Endowment for the Humanities, National Foundation on the Arts and the Humanities.

ACTION: Notice of meetings.

SUMMARY: The National Endowment for the Humanities will hold three meetings of the Humanities Panel, a federal advisory committee, during May, 2016. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See SUPPLEMENTARY INFORMATION for meeting room numbers.

FOR FURTHER INFORMATION CONTACT: Elizabeth Voyatzis, Committee Management Officer, 400 7th Street SW., Room, 4060, Washington, DC 20506; (202) 606-8322; evoyatzis@neh.gov.

SUPPLEMENTARY INFORMATION: Pursuant to section 10(a)(2) of the Federal Advisory Committee Act (5 U.S.C. App.), notice is hereby given of the following meetings:

1. Date: May 2, 2016.

Time: 8:30 a.m. to 5:00 p.m.

Room: P002.

This meeting will discuss applications for the Institutes for College and University Teachers grant program, submitted to the Division of Education Programs.

2. Date: May 3, 2016.

Time: 8:30 a.m. to 5:00 p.m.

Room: P002.

This meeting will discuss applications for the Seminars for College Teachers grant program, submitted to the Division of Education Programs.

3. Date: May 3, 2016.

Time: 8:30 a.m. to 5:00 p.m.

Room: Virtual Panel.

This meeting will discuss applications for the Institutes for Advanced Topics in the Digital Humanities grant program, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee meetings dated July 19, 1993.

Dated: April 12, 2016.
Elizabeth Voyatzis,
Committee Management Officer.

[FR Doc. 2016-08790 Filed 4-15-16; 8:45 am]

BILLING CODE 7536-01-P